DEPARTMENT OF HEALTH AND HUMAN SERVICES

National Institutes of Health

Proposed Collection; Comment Request; NIH Toolbox for Assessment of Neurological and Behavioral Function

SUMMARY: In compliance with the requirement of Section 3506(c)(2)(A) of the Paperwork Reduction Act of 1995, for opportunity for public comment on proposed data collection projects, the National Institute on Aging (NIA), the National Institutes of Health (NIH) will publish periodic summaries of proposed projects to be submitted to the Office of Management and Budget (OMB) for review and approval.

Proposed Collection: Title: NIH Toolbox for Assessment of Neurological and Behavioral Function. Type of Information Collection Request: New. Need and Use of Information Collection: The overall goal of the NIH Toolbox project is to develop unified, integrated methods and measures of four domains of neurological and behavioral functioning (cognitive, emotional, motor and sensory) for use in large longitudinal or epidemiological studies where functioning is monitored over time. The current phase (“Norming”), will involve a large sample of 12,900 for the purpose of establishing comparative norms. Existing recruitment databases will be randomly sampled and screened for household members' age, gender, race/ethnicity, education and primary language. The targeted population will be non-institutionalized U.S. residents, aged 3-85, with 70% English-speaking and 30% Spanish-speaking. Frequency of Response: Once or twice (depending on subsample). Affected Public: Individuals. Type of Respondents: U.S. residents (persons aged 3-85 years). The annual reporting burden is as follows: Estimated Number of Respondents: 12,900; Estimated Number of Responses per Respondent: 1-2; Average Burden Hours per Response: 1.96; and Estimated Total Annual Burden Hours Requested: 29,700. The annualized cost to respondents is estimated at: $414,375. There are no Capital Costs, Operating Costs, and/or Maintenance Costs to report.

Type of respondents | Estimated number of respondents | Estimated number of responses per respondent | Average burden hours per response | Estimated total annual burden hours requested
Adults *
Adult study participants, single assessment | 3,150 | 1 | 3 | 9,450
Adult study participants, two assessments | 750 | 2 | 3 | 4,500
Parent proxies for child participants, single assessment | 3,750 | 1 | 0.5 | 1,875
Parent proxies for child participants, two assessments | 750 | 2 | 0.5 | 750
Children
Single assessment | 3,750 | 1 | 2.5 | 9,375
Two assessments | 750 | 2 | 2.5 | 3,750
Totals | * 12,900 |  |  | 29,700
* Some adults may participate both as a study participant and as a parent proxy if their child is also a study participant.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Eddie Billingslea, PhD, Division of Neuroscience, National Institute on Aging, NIH, DHHS, 7201 Wisconsin Avenue, Suite 350, Bethesda, Maryland 20892-9205 or call non-toll-free number 301-496-9350 or e-mail your request, including your address to: billingsleae@nia.nih.gov.

Comments Due Date: Comments regarding this information collection are best assured of having their full effect if received within 60 days of the date of this publication.

Dated: January 4, 2011.
Melissa Fraczkowski,
National Institute on Aging, Project Clearance Liaison, National Institutes of Health.

[FR Doc. 2011-379 Filed 1-10-11; 8:45 am]

BILLING CODE 4140-01-P